DEPARTMENT OF THE INTERIOR

National Park Service

[NPS-WASO-NRNHL-16822; PPWOCRADI0, PCU00RP14.R50000]

National Register of Historic Places; Notification of Pending Nominations and Related Actions

Nominations for the following properties being considered for listing or related actions in the National Register were received by the National Park Service before September 20, 2014. Pursuant to section 60.13 of 36 CFR part 60, written comments are being accepted concerning the significance of the nominated properties under the National Register criteria for evaluation. Comments may be forwarded by United States Postal Service, to the National Register of Historic Places, National Park Service, 1849 C St. NW., MS 2280, Washington, DC 20240; by all other carriers, National Register of Historic Places, National Park Service, 1201 Eye St. NW., 8th Floor, Washington, DC 20005; or by fax, 202-371-6447. Written or faxed comments should be submitted by December 10, 2014. Before including your address, phone number, email address, or other personal identifying information in your comment, you should be aware that your entire comment—including your personal identifying information—may be made publicly available at any time. While you can ask us in your comment to withhold your personal identifying information from public review, we cannot guarantee that we will be able to do so.

Dated: September 29, 2014.
J. Paul Loether,
Chief, National Register of Historic Places/National Historic Landmarks Program.

ARIZONA

Maricopa County

Moeur Park, 715 N. Mill Rd., Tempe, 14000888

CALIFORNIA

Sacramento County

Sacramento City Cemetery, 1000 Broadway, Sacramento, 14000889

COLORADO

Park County

South Park City Museum, 100 4th St., Fairplay, 14000899

GEORGIA

Chatham County

Pine Gardens Historic District, Roughly bounded by Goebel Ave., Beech & Capitol Sts., Savannah, 14000890

GUAM

Guam County

Mahlac Pictograph Cave, Address Restricted, Talofofo, 14000891

Talisay Site—Latte' Saddok Talisai, Address Restricted, Santa Rita, 14000892

Tumon—Maui Well, Marine Corps Dr. & Tumon Ln., Dededo, 14000893

MASSACHUSETTS

Essex County

Union Congregational Church, 350-354 Main St., Amesbury, 14000894

NEW MEXICO

Colfax County

Raton Downtown Historic District (Boundary Increase), Roughly bounded by 3rd St., Apache & Parsons Aves., Raton, 14000897

Socorro County

El Camino Real de Tierra Adentro—Arroyo Alamillo North Section, (Camino Real in New Mexico, AD 1598-1881 MPS), Address Restricted, San Acacia, 14000898

NORTH DAKOTA

Burleigh County

Depression Era Work Relief Construction Features at Double Ditch Indian Village Site State Historic Site, (Federal Relief Construction in North Dakota, 1931-1943, MPS), ND 1804, Bismarck, 14000896

Grand Forks County

Wells—Denbrook Architects Office Building, 1701 Cherry St., Grand Forks, 14000900

OREGON

Marion County

Gaiety Hollow, 545 Mission St. NE., Salem, 14000895

[FR Doc. 2014-27865 Filed 11-24-14; 8:45 am]

BILLING CODE 4312-51-P